DEPARTMENT OF COMMERCE

National Oceanic and Atmospheric Administration

RIN: 0648-XP40

Pacific Fishery Management Council; Public Meetings

AGENCY: National Marine Fisheries Service, National Oceanic and Atmospheric Administration, Commerce.

ACTION: Notice of public meetings.

SUMMARY: The Pacific Fishery Management Council (Council) and its advisory entities will hold public meetings.

DATES: The Council and its advisory entities will meet June 11-18, 2009. The Council meeting will begin on Saturday, June 13, at 8 a.m., reconvening each day through Thursday, June 18, 2009. All meetings are open to the public, except a closed session will be held from 8 a.m. until 9 a.m. on Saturday, June 13 to address litigation and personnel matters. The Council will meet as late as necessary each day to complete its scheduled business.

ADDRESSES: The meetings will be held at Doubletree Hotel Spokane - City Center, 322 North Spokane Falls Court, Spokane, WA 99201; telephone: (509) 455-9600.

Council address: Pacific Fishery Management Council, 7700 NE Ambassador Place, Suite 101, Portland, OR 97220.

FOR FURTHER INFORMATION CONTACT: Dr. Donald O. McIsaac, Executive Director, telephone: (866) 806-7204 or (503) 820-2280; or access the Pacific Council website, www.pcouncil.org for the current meeting location, proposed agenda, and meeting briefing materials.

SUPPLEMENTARY INFORMATION: The following items are on the Pacific Council agenda, but not necessarily in this order:

A. Call to Order

1. Opening Remarks and Introductions

2. Roll Call

3. Report of the Executive Director

4. Approve Agenda

B. Open Comment Period

1. Comments on Non-Agenda Items

C. Habitat

1. Current Habitat Issues

D. Pacific Halibut Management

1. Proposed Procedures for Estimating Pacific Halibut Bycatch in the Groundfish Setline Fisheries

E. Groundfish Management

1. Groundfish Essential Fish Habitat Modifications

2. Proposed Process and Schedule for Developing Biennial (2011-12) Harvest Specifications and Management Measures

3. Fishery Management Plan Amendment 22-Open Access Fishery Limitation

4. Fishery management Plan Amendment 23-Implementing Annual Catch Limit Requirements

5. National Marine Fisheries Service Report

6. Part I of Stock Assessments for 2011-12 Groundfish Fisheries

7. Consideration of Inseason Adjustments

8. Preliminary Review of Exempted Fishing Permits for 2010

9. Final Consideration of Inseason Adjustments (if needed)

10. Fishery Management Plan (FMP) Amendments 20 and 21-Trawl Rationalization and Intersector Allocation - Regulatory Overview and Final Action on Miscellaneous Outstanding Issues and FMP Language

11. Fishery Management Plan Amendment 20-Trawl Rationalization - Final Action on Accumulation Limits and Divestiture

12. Fishery Management Plan Amendment 20-Trawl Rationalization - Final Action for Adaptive Management Program

F. Highly Migratory Species Management

1. Council Recommendations to International Regional Fishery Management Organizations

G. Administrative Matters

1. Membership Appointments and Council Operating Procedures

2. Fiscal Matters

3. Proposed Rule on Council Procedures

4. Approval of Council Meeting Minutes

5. Future Council Meeting Agenda and Workload Planning

H. Coastal Pelagic Species Management

1. Pacific Mackerel Management for 2009-10

2. Survey Methodology Review and Exempted Fishing Permit

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

The following is a schedule of ancillary and advisory body meetings:

SCHEDULE OF ANCILLARY MEETINGS
Thursday, June 11, 2009 |
Scientific and Statistical Committee Groundfish Subcommittee | 8 am
Friday, June 12, 2009 |
Groundfish Advisory Subpanel | 8 am
Groundfish Management Team | 8 am
Scientific and Statistical Committee | 8 am
Highly Migratory Species Management Team | 1 pm
Pacific Council Secretariat | 1 pm
Budget Committee | 3 pm
Saturday, June 13, 2009 |
Pacific Council Secretariat | 7 am
California State Delegation | 7 am
Oregon State Delegation | 7 am
Washington State Delegation | 7 am
Groundfish Advisory Subpanel | 8 am
Groundfish Management Team | 8 am
Highly Migratory Advisory Subpanel | 8 am
Highly Migratory Management Team | 8 am
Scientific and Statistical Committee | 8 am
Enforcement Consultants | 4:30 pm
Sunday, June 14, 2009 |
Scientific and Statistical Committee | 8 am
Pacific Council Secretariat | 9 am
California State Delegation | 9 am
Oregon State Delegation | 9 am
Washington State Delegation | 9 am
Enforcement Consultants | 10 am
Groundfish Advisory Subpanel | 10 am
Groundfish Management Team | 10 am
Monday, June 15, 2009 |
Pacific Council Secretariat | 7 am
California State Delegation | 7 am
Oregon State Delegation | 7 am
Washington State Delegation | 7 am
Coastal Pelagic Species Advisory Subpanel | 8 am
Coastal Pelagic Species Management Team | 8 am
Enforcement Consultants | 8 am
Groundfish Advisory Subpanel | 8 am
Groundfish Management Team | 8 am
Tuesday, June 16, 2009 |
Pacific Council Secretariat | 7 am
California State Delegation | 7 am
Oregon State Delegation | 7 am
Washington State Delegation | 7 am
Enforcement Consultants | 8 am
Groundfish Advisory Subpanel | 8 am
Groundfish Management Team | 8 am
Wednesday, June 17, 2009 |
Pacific Council Secretariat | 7 am
California State Delegation | 7 am
Oregon State Delegation | 7 am
Washington State Delegation | 7 am
Enforcement Consultants | 8 am
Groundfish Advisory Subpanel | 8 am
Groundfish Management Team | 8 am
Thursday, June 18, 2009 |
Pacific Council Secretariat | 7 am
California State Delegation | 7 am
Oregon State Delegation | 7 am
Washington State Delegation | 7 am

Special Accommodations

These meetings are physically accessible to people with disabilities. Requests for sign language interpretation or other auxiliary aids should be directed to Ms. Carolyn Porter at (503) 820-2280 at least 5 days prior to the meeting date.

Dated: May 21, 2009.
Tracey L. Thompson,
Acting Director, Office of Sustainable Fisheries, National Marine Fisheries Service.

[FR Doc. E9-12220 Filed 5-22-09; 8:45 am]

BILLING CODE 3510-22-S